DEPARTMENT OF DEFENSE

Office of the Secretary

[Docket ID: DoD-2014-OS-0030]

Privacy Act of 1974; Computer Matching Program

AGENCY: Defense Manpower Data Center (DMDC), DoD.

ACTION: Notice of a Computer Matching Program.

SUMMARY: Subsection (e)(12) of the Privacy Act of 1974, as amended, requires agencies to publish advanced notices of any proposed or revised computer matching program by the matching agency for public comment. The Department of Defense (DoD), as the matching agency under the Privacy Act of 1974, as amended, is hereby giving notice to the record subjects of a computer matching program between the DoD and the Social Security Administration (SSA). The purpose of the computer matching program is to exchange personal data to verify eligibility and payment amounts for recipients of Supplemental Security Income (SSI) and Special Veterans Benefits (SVB) recipients.

DATES: This proposed action will become effective April 11, 2014 and matching may commence unless changes to the matching program are required due to public comments or by Congressional or by Office of Management and Budget objections. Any public comment must be received before the effective date.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Samuel P. Jenkins, Acting Director for Privacy and Civil Liberties Office, 241 18th Street South, Suite 101, Arlington, VA 22202-3405. Telephone: (703) 571-0070.

SUPPLEMENTARY INFORMATION: Pursuant to subsection (o) of the Privacy Act of 1974, as amended (5 U.S.C. 552a), the SSA and DMDC have concluded an agreement to conduct a computer matching program between agencies. The purpose of the computer matching program is to exchange personal data for the purposes of verifying eligibility and payment amounts for recipients of Supplemental Security Income (SSI) and Special Veterans Benefits (SVB). The parties to this agreement have determined that a computer matching program is the most efficient, expeditious, and effective means of obtaining and processing the information needed by the SSA to verify information provided to SSA by recipients of Supplemental Security Income (SSI) payments and beneficiaries of Special Veterans Benefits (SVB). The principal alternative to using a computer matching program for identifying such individuals would be to conduct a manual comparison of all Federal personnel records with SSA records of those individuals currently receiving Supplemental Security Income (SSI) payments and Special Veterans Benefits (SVB) under Federal benefit programs being administered by the SSA. Conducting a manual match, however, would clearly impose a considerable administrative burden, constitute a greater intrusion of the individual's privacy, and would result in additional delay in determining eligibility and, if applicable, the eventual recovery of any outstanding debts.

A copy of the computer matching agreement between SSA and DoD is available upon request. Requests should be submitted to the address in the FOR FURTHER INFORMATION CONTACT section.

Set forth is the notice of the establishment of a computer matching program required by paragraph 6.c. of the Office of Management and Budget Guidelines on computer matching published on June 19, 1989, at 54 FR 25818.

The matching agreement, as required by 5 U.S.C. 552a(r) of the Privacy Act of 1974, and an advance copy of this notice was submitted on March 6, 2014, to the House Committee on Government Reform, the Senate Committee on Homeland Security and Governmental Affairs, and the Administrator of the Office of Information and Regulatory Affairs, Office of Management and Budget pursuant to paragraph 4d of Appendix I to OMB Circular No. A-130, “Federal Agency Responsibilities for Maintaining Records about Individuals”, dated February 8, 1996 (February 20, 1996, 61 FR 6427).

Dated: March 7, 2014.
Aaron Siegel,
Alternate OSD Federal Register Liaison Officer, Department of Defense.

NOTICE OF A COMPUTER MATCHING PROGRAM AMONG THE DEFENSE MANPOWER DATA CENTER, THE DEPARTMENT OF DEFENSE AND THE SOCIAL SECURITY ADMINISTRATION FOR VERIFICATION OF ELIGIBILITY OF INDIVIDUALS FOR SSI PAYMENTS AND THE ENTITLEMENT OF INDIVIDUALS TO SVB.

A. PARTICIPATING AGENCIES: Participants in this computer matching program are the Social Security Administration (SSA) and the Department of Defense (DoD). The SSA is the source agency, and DoD is the matching agency, the agency that actually performs the match.

B. PURPOSE OF THE MATCH: The Social Security Act requires SSA to verify, with independent or collateral sources, information provided to SSA by recipients of SSI payments and beneficiaries of SVB. The SSI and SVB recipients/beneficiaries provide information about eligibility/entitlement factors and other relevant information. SSA obtains additional information as necessary before making any determinations of eligibility/payment or entitlement/benefit amounts or adjustments thereto. With respect to military retirement payments to SSI recipients and SVB beneficiaries who are retired members of the Uniformed Services or their survivors, SSA proposes to accomplish this task by computer matching with the DoD.

This agreement sets forth the responsibility of the SSA with respect to information obtained pursuant to this agreement. Each SSA match is expected to comply with pertinent requirements of the Privacy Act, including its implementing regulations and guidance.

C. AUTHORITY FOR CONDUCTING THE MATCH: The legal authority for conducting the matching program is contained in sections 806(b) and 1631(e)(1)(B) and (f) of the Social Security Act (42 U.S.C. 1006(b) and 1383(e)(1)(B) and (f) and 1320b-7).

D. RECORDS TO BE MATCHED: The systems of records maintained by the respective agencies under the Privacy Act of 1974, as amended, 5 U.S.C. 552a, from which records will be disclosed for the purpose of this computer match are as follows:

1. Federal, but not State, agencies must publish system notices for “systems of records” pursuant to subsection (e)(4) of the Privacy Act and must identify “routine uses” pursuant to subsection (b)(3) of the Privacy Act for those systems of records from which they intend to disclose this information. The DoD system of records described in this notice contains an appropriate routine use proviso, which permits disclosure of information by DMDC to the SSA.

2. DoD will use personal data from the record system identified as DMDC 01, entitled “Defense Manpower Data Center Data Base”, November 23, 2011, 76 FR 72391. Disclosure of DMDC data will be pursuant to Routine Use (RU) number 5b.

3. SSA will use records from a system of records identified as 60-0103, entitled “Supplemental Security Income Record and Special Veterans Benefits, SSA/ODSSIS”, last published in the Federal Register at 71 FR 1830, January 11, 2006. Disclosure of data will be pursuant to RU number 3 and 19.

E. DESCRIPTION OF COMPUTER MATCHING PROGRAM: SSA, as the source agency, will provide DMDC with an electronic file which contains the data elements. Upon receipt of the electronic file, DMDC, as the recipient agency, will perform a computer match using all nine digits of the SSN of the SSI/SVB file against a DMDC database which contains the data elements. The DMDC database consists of extracts of personnel and pay records of retired members of the uniformed services or their survivors. The “hits” or matches will be furnished to SSA. SSA is responsible for verifying and determining that the data on the DMDC electronic reply file are consistent with the SSA source file and resolving any discrepancies or inconsistencies on an individual basis. SSA will also be responsible for making final determinations as to eligibility for/entitlement to, or amount of payments/benefits, their continuation or needed adjustments, or any recovery of overpayments as a result of the match.

1. The electronic file provided by SSA will contain approximately 9.5 million records extracted from the SSR/SVB.

2. The electronic DMDC database contains records on approximately 2.5 million retired uniformed service members or their survivors.

3. DMDC will match the SSN on the SSA file by computer against the DMDC database. Matching records, “hits” based on SSNs, will produce data elements of the individual's name; SSN; active or retired; if active, military service or employing agency, and current work or home address, and such other data as considered necessary.

F. INCLUSIVE DATES OF THE MATCHING PROGRAM: The effective date of the matching agreement and date when matching may actually begin shall be at the expiration of the 40-day review period for OMB and Congress, or 30 days after publication of the matching notice in the Federal Register, whichever date is later. The parties to this agreement may assume OMB and Congressional concurrence if no comments are received within 40 days of the date of the transmittal letter. The 40-day OMB and Congressional review period and the mandatory 30-day public comment period for the Federal Register publication of the notice will run concurrently. By agreement between SSA and DoD, the matching program will be in effect for 18 months with an option to renew for 12 additional months unless one of the parties to the agreement advises the other by written request to terminate or modify the agreement.

G. ADDRESS FOR RECEIPT OF PUBLIC COMMENTS OR INQUIRIES: Acting Director, Defense Privacy and Civil Liberties Office, 241 18th Street South, Suite 101, Arlington, VA 22202-3405. Telephone (703) 571-0070.

[FR Doc. 2014-05340 Filed 3-11-14; 8:45 am]

BILLING CODE 5001-06-P